DEPARTMENT OF ENERGY

Energy Information Administration

Agency Information Collection Activities: Proposed Collection; Comment Request

AGENCY: Energy Information Administration (EIA), Department of Energy (DOE).

ACTION: Agency Information Collection Activities: Proposed Collection; Comment Request.

SUMMARY: The EIA is soliciting comments on the proposed revision and 3-year extension of the surveys in the Natural Gas Data Collection Program Package. The surveys covered by this request include:

• Form EIA-176, “Annual Report of Natural and Supplemental Gas Supply and Disposition”

• EIA-191M, “Monthly Underground Gas Storage Report”

• EIA-191A, “Annual Underground Gas Storage Report”

• EIA-757, “Natural Gas Processing Plant Survey”

• EIA-857, “Monthly Report of Natural Gas Purchases and Deliveries to Consumers”

• EIA-895, “Annual Quantity and Value of Natural Gas Production Report”

• EIA-910M, “Monthly Natural Gas Marketer Survey” and EIA-910A, Annual Natural Gas Marketer Survey”

• EIA-912, “Weekly Underground Natural Gas Storage Report”

DATES: Comments must be filed by May 2, 2011. If you anticipate difficulty in submitting comments within that period, contact the person listed below as soon as possible.

ADDRESSES: Send comments to Ms. Amy Sweeney, Natural Gas Downstream Team, Office of Oil, Gas, and Coal Supply Statistics, Energy Information Administration. To ensure receipt of the comments by the due date, submission by fax (202-586-4420) or e-mail (amy.sweeney@eia.gov) is recommended. The mailing address is Ms. Amy Sweeney, Energy Information Administration, U.S. Department of Energy, 1000 Independence Ave., SW., EI-24, Washington, DC 20585. Also, Ms. Sweeney may be contacted by telephone at 202-586-2627.

FOR FURTHER INFORMATION CONTACT: Requests for additional information or copies of any forms and instructions should be directed to Ms. Sweeney at the address listed above. Also, the draft forms and instructions are available on the EIA Web site at http://www.eia.gov/oil_gas/fwd/proposed.html.

SUPPLEMENTARY INFORMATION:

I. Background

II. Current Actions

III. Request for Comments

I. Background

The Federal Energy Administration Act of 1974 (Pub. L. 93-275, 15 U.S.C. 761 et seq.) and the DOE Organization Act (Pub. L. 95-91, 42 U.S.C. 7101 et seq.) require the EIA to carry out a centralized, comprehensive, and unified energy information program. This program collects, evaluates, assembles, analyzes, and disseminates information on energy resource reserves, production, demand, technology, and related economic statistics. This information is used to assess the adequacy of energy resources to meet both near- and longer-term domestic demands.

The EIA, as part of its effort to comply with the Paperwork Reduction Act of 1995 (Pub. L. 104-13, 44 U.S.C. Chapter 35), provides the general public and other Federal agencies with opportunities to comment on the collection of energy information conducted by or in conjunction with the EIA. Any comments help the EIA prepare data requests that maximize the utility of the information collected and assess the impact of collection requirements on the public. As required by section 3507(h)(1) of the Paperwork Reduction Act of 1995, the EIA will later seek approval for this collection by the Office of Management and Budget (OMB).

The natural gas surveys included in the Natural Gas Data Collection Program Package collect information on natural gas production, underground storage, supply, processing, transmission, distribution, consumption by sector, and wellhead and consumer prices. This information is used to support public policy analyses of the natural gas industry and estimates generated from data collected on these surveys. The statistics generated from these surveys are posted to the EIA Web site (http://www.eia.gov) in various EIA products, including the Weekly Natural Gas Storage Report (WNGSR), Natural Gas Monthly (NGM), Natural Gas Annual (NGA), Monthly Energy Review (MER), Short-Term Energy Outlook (STEO), Annual Energy Outlook (AEO), and Annual Energy Review (AER). Respondents to EIA natural gas surveys include State agencies, underground storage operators, transporters, marketers, and distributors. Each form included as part of this package is discussed in detail below.

Please refer to the proposed forms and instructions for more information about the purpose, who must report, when to report, where to submit, the elements to be reported, detailed instructions, provisions for confidentiality, and uses (including possible nonstatistical uses) of the information. For instructions on obtaining materials, see FOR FURTHER INFORMATION CONTACT section.

II. Current Actions

EIA is requesting a 3-year extension of the collection authority for each of the above-referenced surveys and will make minor changes to the forms and instructions to provide clarity. In addition, EIA proposes the changes outlined below.

Form EIA-176, “Annual Report of Natural and Supplemental Gas Supply and Disposition”

In Part 3 of the form, EIA is proposing to collect information on whether respondents, comprised primarily of natural gas utilities and municipal gas systems, have active customer choice programs for certain customer types and their rates of participation in order to gauge the extent to which customer choice programs are being perpetuated and utilized. This data would assist EIA in evaluating whether to reduce spending on monitoring customer choice programs. Also in Part 3 of the form, EIA proposes a question that asks companies to report whether their distribution service territory has changed via sale or merger in order to maintain the accuracy of the survey frame.

Form EIA-191, “Monthly Underground Gas Storage Report” and Form EIA-191A, “Annual Natural Gas Storage Report”

EIA proposes the elimination of Form EIA-191A and the addition of the elements it collects (storage field type, working and total capacity as well as maximum deliverability) to the monthly Form EIA-191. Adding data elements to the monthly Form EIA-191 will provide more timely data on changes in natural gas storage field capacities and will improve the quality of the monthly and related weekly estimates on natural gas storage activity. EIA will protect against the identifiability of reported values for monthly working, base gas levels, total gas in storage, and injections and withdrawals into storage, but will publish storage field name and type, reservoir name, location, capacity and maximum deliverability in company identifiable form. This is consistent with how EIA currently treats the information reported annually on Form EIA-191A. EIA proposes to publicly release the same variables that it currently publicly releases from Form EIA-191A. Information collected in Parts 1 and 2 on Form EIA-191 will also be considered public information and may be publicly released in company identifiable form

Form EIA-757, “Natural Gas Processing Plant Survey”

EIA proposes to continue the collection of the same data elements on Form EIA-757 in its present form but proposes to remove the confidentiality protection for the reported values and to publicly release reported values in company identifiable form in order to meet increasing data user needs for more company level data.

Form EIA-857, “Monthly Report of Natural Gas Purchases and Deliveries to Consumers”

In 2010, a new question was added to Form EIA-857 that asked for monthly system sendout by responding companies. The data element was added to Form EIA-857 via a non-substantive change request approved by the Office of Management and Budget. EIA has been using these data to improve the calculation of monthly natural gas consumption so it better aligns with the calendar month. This is more compatible with respondents' reporting records because consumer deliveries are reported according to billing cycles for some of the respondent population. To enhance the precision of monthly natural gas consumption, EIA proposes adding questions that ask companies for their monthly company-use gas as well as any deliveries to the vehicle fuel sector. These items are currently collected on an annual basis on Form EIA-176, Annual Report of Natural and Supplemental Gas Supply and Disposition, however, their inclusion on Form EIA-857 will facilitate more accurate consumption estimates on a monthly basis as they are seasonal in nature.

In addition, EIA is proposing to reduce the sample size reporting on Form EIA-857 by approximately 25 percent (400 to 300) by moving to a cutoff-based sample design that can achieve the same level of quality as the current sample design and estimation protocol.

Form EIA-895, “Annual Quantity and Value of Natural Gas Production Report”

Because of the difficulties in obtaining portions of the data from some States, EIA is considering discontinuing both the monthly and annual versions of Form EIA-895 and seeks comment on whether the publication of select data elements currently collected on this survey form continues to be relevant and necessary. Specifically, will data user needs be satisfied if data collection on natural gas marketed and dry production, vented and flared gas, gas used for repressuring, consumed on oil and gas leases, as well as wellhead prices, are eliminated and EIA only publishes data on gross production?

Alternatively, if EIA needs to continue publishing data on natural gas wellhead prices, marketed and dry natural gas production, vented and flared gas, and gas used for repressuring or consumed on leases is to continue, EIA is considering the following options or a combination thereof:

(a) Eliminate Form EIA-895 and collect the same data elements (gross production, gas used for repressuring, nonhydrocarbons removed, vented and flared gas, gas used to operate leases and the value of production) using existing EIA surveys of gas producers such as Forms EIA-914, EIA-23, EIA-64A, and EIA-816.

(b) Reduce the scope of Form EIA-895 by collecting only data elements that are available from the States, such as gross withdrawals and their source, and adding data elements on crude oil production and lease condensate to serve as benchmarks for similar data currently collected on existing EIA surveys of natural gas and oil producers.

Form EIA-910M, “Monthly Natural Gas Marketer Survey” and EIA-910A, “Annual Natural Gas Marketer Survey”

EIA proposes to continue Form EIA-910 with no changes to the monthly data collection form and proposes to add an annual version using a new survey, Form EIA-910A, that will ask respondents to report the annual totals of all the existing elements on the monthly survey form. The EIA-910A will be due March 1 of each year and the annual totals it collects will be broken out for each local distribution company's territory in which the respondent operates instead of at the State level, as is reported monthly. Having annual data would assist in the reconciliation of initial estimates of monthly gas sales many respondents submit against actual meter reads which are frequently not available from the utility that delivered the gas by the monthly form's due date. The annual data will also enable EIA to resolve differences between marketer volumes and volumes transported on the account of marketers on Form EIA-176.

Form EIA-176, “Annual Report of Natural and Supplemental Gas Supply and Disposition,” and resolve discrepancies between these two surveys.

In addition, EIA proposes to change the data confidentiality protection status of the monthly Form EIA-910M from the Confidential Information Protection and Statistical Efficiency Act (CIPSEA) to protecting the reported information using exemptions under the Freedom of Information Act and provisions in the Trade Secrets Act. The company level data would still be protected and withheld from public release but could be shared for nonstatistical purposes in limited circumstances. The demand for more natural gas data has grown over the past 5 years and EIA has statutory obligations to share energy data with other Federal agencies for informed policy decisions. EIA will continue its policy of not publicly releasing company level information reported on this survey even though EIA is proposing to use different Federal statutes to protect the information. EIA proposes to publish annual data collected on Form EIA-910A in company identifiable form approximately 9 months after the end of the calendar year.

EIA-912, Weekly Underground Natural Gas Storage Report

EIA proposes to continue the collection of the EIA-912 with no changes to the form but expand the sample size from 70 to 85 respondents in order to maintain the same level of survey coverage based on the increase in the number of natural gas storage fields in operation.

III. Request for Comments

Prospective respondents and other interested parties should comment on the actions discussed in items II and III. The following guidelines are provided to assist in the preparation of comments. Please indicate to which forms your comments apply.

General Issues

A. Is the proposed collection of information necessary for the proper performance of the functions of the agency and does the information have practical utility? Practical utility is defined as the actual usefulness of information to or for an agency, taking into account its accuracy, adequacy, reliability, timeliness, and the agency's ability to process the information it collects.

B. What enhancements can be made to the quality, utility, and clarity of the information to be collected?

As a Potential Respondent to the Request for Information

A. What actions could be taken to help ensure and maximize the quality, objectivity, utility, and integrity of the information to be collected?

B. Are the instructions and definitions clear and sufficient? If not, which instructions need clarification?

C. Can the information be submitted by the due date?

D. Public reporting burden for the surveys included in the Natural Gas Data Collection Program Package is shown below as an average hour(s) per response. The estimated burden includes the total time necessary to provide the requested information. In your opinion, how accurate are these estimates for the proposed forms?

(1) Form EIA-176, “Annual Report of Natural and Supplemental Gas Supply and Disposition,” 12 hours per response.

(2) Form EIA-191, “Monthly Underground Gas Storage Report,” 2.6 hours per response.

(3) Form EIA-857, “Monthly Report of Natural Gas Purchases and Deliveries to Consumers,” 3.7 hours per response.

(4) Form EIA-895, “Annual Quantity and Value of Natural Gas Production Report,” 0.5 hours per response.

(5) Form EIA-910M, “Monthly Natural Gas Marketer Survey,” 2 hours per response.

(6) Form EIA-910A, “Annual Natural Gas Marketer Survey,” 4 hours per response.

(7) Form EIA-912, “Weekly Underground Natural Gas Storage Report,” 0.5 hour per response.

(8) Form EIA-757, “Natural Gas Processing Plant Survey,” Schedule A, 0.5 hours per response; Schedule B, 1.5 hours per response.

E. The agency estimates that the only cost to a respondent is for the time it will take to complete the collection. Will a respondent incur any start-up costs for reporting, or any recurring annual costs for operation, maintenance, and purchase of services associated with the information collection?

F. What additional actions could be taken to minimize the burden of this collection of information? Such actions may involve the use of automated, electronic, mechanical, or other technological collection techniques or other forms of information technology.

G. Does any other Federal, State, or local agency collect similar information? If so, specify the agency, the data element(s), and the methods of collection.

As a Potential User of the Information To Be Collected

A. What actions could be taken to help ensure and maximize the quality, objectivity, utility, and integrity of the information disseminated?

B. Is the information useful at the levels of detail to be collected?

C. For what purpose(s) would the information be used? Be specific.

D. Are there alternate sources for the information and are they useful? If so, what are their weaknesses and/or strengths?

Comments submitted in response to this notice will be summarized and/or included in the request for OMB approval of the form. They also will become a matter of public record.

Statutory Authority: Section 13(b) of the Federal Energy Administration Act of 1974, Pub. L. 93-275, certified at 15 U.S.C. 772(b).

Issued in Washington, DC, February 24, 2011.
Stephanie Brown,
Director, Office of Survey Development and Statistical Integration, Energy Information Administration.

[FR Doc. 2011-4622 Filed 3-1-11; 8:45 am]

BILLING CODE 6450-01-P